DEPARTMENT OF TRANSPORTATION

Federal Railroad Administration

[Docket Number FRA-2017-0123]

Petition for Waiver of Compliance

Under part 211 of Title 49 Code of Federal Regulations (CFR), this provides the public notice that on November 27, 2017, the Canadian National Railway (CN) petitioned the Federal Railroad Administration (FRA) for relief from the requirements of 49 CFR 236.23, Aspects and indications, to allow CN to display a dark aspect as a “stop.” FRA assigned the petition Docket Number FRA-2017-0123.

The regulation requires that a red signal aspect must be displayed for a “stop” indication. In its petition, CN requests relief from this requirement, and explains that with the use of advanced processor technology in the railway signaling field, failsafe checks that have never before been incorporated into the wayside signal system can now economically be provided. In CN's particular case, the solid-state electronics have the ability to monitor lamp driver circuits for foreign and/or undesired voltage. CN explains that if the lamp driver monitoring circuits detect foreign or undesirable voltage, all voltage produced by the lamp driver is switched off by the central processing unit as defined by the executive software. CN states that this relief would allow a continuing and industry-wide practice that ensures absolute safety under undesirable conditions. These conditions include but are not limited to, component failures on lamp driver modules, grounds, incorrect9*/wiring and cross connections.

CN's position is that it is far safer to remove all operating voltage to affected lamps, versus running the risk of having an undesired aspect displayed. The relief is sought for all current solid-state applications and all future solid-state applications on CN Southern Region, inclusive of all United States properties.

A copy of the petition, as well as any written communications concerning the petition, is available for review online at www.regulations.gov and in person at the Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by February 9, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Safety Chief Safety Officer.

[FR Doc. 2017-27777 Filed 12-22-17; 8:45 am]

BILLING CODE 4910-06-P